DEPARTMENT OF ENERGY

Federal Energy Regulatory Commission

[Docket No. CP06-50-000]

Panhandle Eastern Pipe Line Company, LP; Notice of Application

January 24, 2006.

Take notice that on January 18, 2006, Panhandle Eastern Pipe Line Company, LP (Panhandle), P.O. Box 4967, Houston, Texas 77210-4967, filed in Docket No. CP06-50-000, an application pursuant to section 7(c) of the Natural Gas Act (NGA), for authorization to: (1) Install a new receipt point with Northern Natural Gas Company (Northern), (2) replace and construct new minor facilities to reconfigure a portion of Panhandle's Liberal 24-inch 100-Line to add the capability of bi-directional flow, (3) relocate certain form and city tap facilities; and (4) install metering and appurtenant facilities, located in Seward, Meade, Clark, Ford and Kiowa Counties, Kansas, all as more fully set forth in the request which is on file with Commission and open to public inspection.

Specifically, Panhandle proposes to: (1) Relocate 80 farm tap customers and 8 city-gate delivery point customers form Panhandle's 100-Line to Panhandle's existing 200-Line and 300-Line, (2) replace an existing launcher with a new 24-inch bi-directional launcher/receiver at the Liberal Compressor Station, (3) install two new 24-inch bi-directional launcher/receiver facilities, including a 12-inch ultrasonic meter skid and appurtenant facilities at the existing Mullinville Receipt Meter location; and (4) install a new 24-inch tee, 24-inch valve, and connecting piping at the Mullinville Receipt Meter location to the outlet of the new meter skid. The cost of the proposed project is estimated to be $4.96 million.

Any questions regarding this application should be directed to William W. Grygar, Vice President, Rates and Regulatory Affairs, at (713) 989-7000, Panhandle Eastern Pipe Line Company, LP, 5444 Westheimer Road, Houston, Texas 77056.

There are two ways to become involved in the Commission's review of this project. First, any person wishing to obtain legal status by becoming a party to the proceedings for this project should, on or before the comment date stated below, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: February 14, 2006.

Magalie R. Salas,
Secretary.

[FR Doc. E6-1243 Filed 1-31-06; 8:45 am]

BILLING CODE 6717-01-P